DEPARTMENT OF COMMERCE

National Telecommunications and Information Administration

[Docket No. 000608169-0169-01]

RIN 0660-XX07

Notice of Public Meeting and Request for Comment on Minority Media Ownership

AGENCY: National Telecommunications and Information Administration, U.S. Department of Commerce

ACTION: Notice of public meeting, request for public comment.

SUMMARY: The Assistant Secretary for Communications and Information and Administrator of the National Telecommunications and Information Administration (NTIA), Gregory L. Rohde, will host a roundtable discussion open to the public on minority media ownership in a changing industry. NTIA also requests public comment on ways to preserve diversity in the media. With relaxation of the local broadcast ownership caps and elimination of the national station limit under the Telecommunications Act of 1996, concentration in the broadcasting industry has increased. Although access to investment capital remains a challenge for many minority entrepreneurs seeking to buy broadcast stations, the convergence of traditional broadcasting and new telecommunications technologies may present new opportunities for media ownership. Therefore, the roundtable discussion will also explore ways to improve prospects for minorities to acquire media properties. In addition, this notice will present a series of questions to solicit public comment on these issues.

DATES: NTIA will hold the Minority Media Ownership Roundtable from 9:00 a.m. until 12:45 p.m. on Tuesday, July 18, 2000. The deadline for written comments is July 28, 2000 and the deadline for reply comments is August 8, 2000.

ADDRESSES: NTIA will hold the Minority Media Ownership Roundtable from 9:00 a.m. until 12:45 p.m. on July 18, 2000 at the U.S. Department of Commerce, Room 4830, 1401 Consti-tution Avenue, NW., Washington, DC 20230. The meeting will be open to the public. For current information on the roundtable, please visit NTIA's website at http://www.ntia.doc.gov/ntiahome/minoritymediaroundtable/.

The Department invites the public to submit written comments in paper or electronic form. Please mail comments to Maureen Lewis, Director, Minority Telecommunications Development Program, National Telecommunications and Information Administration, U.S. Department of Commerce, Room 4720, 1401 Constitution Avenue, NW., Washington, DC 20230. In the alternative, commenters may submit their views electronically to the following electronic mail address: minoritymedia@ntia.doc.gov.

Submission of Documents

Written Comments

Paper submissions should include an original and two paper copies and a version on a 3.5 inch write protected diskette in one of the following formats: PDF, ASCII, Word Perfect (please specify version) or Microsoft Word (please specify version). Please label all diskettes with the name of the party submitting the comments, and the name and version of the word processing program used to create the document. Comments and reply comments submitted by electronic mail to <minoritymedia@ntia.doc.gov> should also be submitted in one of the formats specified above. Caption all comments and reply comments “Minority Media Ownership—Comment [or Reply Comment], Docket No. 000608169-0169-01” and organize each submission in response to the questions set forth in this Notice. NTIA will post comments and reply comments to its web site at <http://www.ntia.doc.gov>.

FOR FURTHER INFORMATION CONTACT: Maureen Lewis, Director, Minority Telecommunications Development Program, National Telecommunications and Information Administration; telephone (202) 482-8056; or electronic mail <mlewis@ntia.doc.gov.> The NTIA Office of Public Affairs will answer media inquiries. Representatives may be contacted at (202) 482-7002.

SUPPLEMENTARY INFORMATION:

Background

In its most recent report on minority media ownership titled “Minority Commercial Broadcast Ownership in the United States,” published in August 1998, NTIA found that “financial barriers, increased competition, and higher station prices, are likely to be significant obstacles to new minority entrants to this marketplace.” The report also identified increasing media concentration as a factor likely to cause small station owners with less investment capital to exit the industry as they find it more difficult to compete against station group owners. In addition, increased competition from non-minority group owners for syndicated programming, advertising revenues, and station personnel, such as on-air talent and managers, were other challenges some minority station owners described in the 1998 report. NTIA is seeking public comment on whether the trends described in the 1998 report are continuing to affect adversely minority media ownership. NTIA is also requesting suggestions about ways to reverse any such negative trends. Since the 1998 report, multibillion dollar mergers of large radio station groups and unions between cable companies, multimedia conglomerates and telecommunications companies have been announced or consummated. Traditional distinctions between the broadcast, cable and telecommunications industries appear to be disappearing as new technologies, such as digital radio, satellite radio, audio and video streaming over the Internet, and interactive television emerge. Given this, NTIA is also interested in obtaining comments on the viability of these and other new technologies to enhance ownership opportunities for incumbent media owners and new entrants. This topic, and the effect on minority media ownership of media concentration and access to capital will be integral parts of NTIA's roundtable discussion.

Questions for Public Comment

NTIA requests that interested parties submit written comments on any issue of fact, law, or policy that may inform the U.S. Department of Commerce on opportunities for increased minority media ownership. Although the Department specifically seeks information on the questions set forth below, the purpose of these questions is to assist the public. These questions do not, nor should they be construed to, limit the issues on which the public may submit comments. Comments and reply comments should cite the number of the question(s) addressed. Please provide copies of any studies, research, or other empirical data referenced in the comments.

1. What criteria should the federal government use to define minority ownership of broadcast or other media properties?

2. What changes, if any, have occurred in minority broadcast ownership since passage of the Telecommunications Act of 1996?

3. What legal impediments, if any, exist to minority media ownership?

4. What economic impediments, if any, exist to minority media ownership?

5. What policies or programs, if any, should the federal government implement to promote minority media ownership?

6. What legal or regulatory measures would promote minority media ownership?

7. What media ownership opportunities do new technologies offer to minority entrepreneurs?

8. What policies or programs should the federal government implement to promote opportunities for minority entrepreneurs to own “new media” ventures, such as webcasting firms or Internet portals?

Information collected in response to this Federal Register Notice may be included in the 2000 Minority Commercial Broadcast Ownership Report.

PUBLIC PARTICIPATION: The Minority Media Ownership Roundtable is open to the public on a first-come, first-served basis and is physically accessible to people with disabilities. To facilitate entry into the Department of Commerce building, please have a photo identification available and/or a U.S. Government building pass if applicable. Any member of the public wishing to attend and requiring special services, such as a sign language interpretation or other ancillary aids, should contact Maureen Lewis, Director, Minority Telecommunications Development Program, National Telecommunications and Information Administration at least five (5) working days prior to the Minority Media Ownership Roundtable by telephone at (202) 482-8056, or by electronic mail at <mlewis@ntia.doc.gov.>

Gregory L. Rohde,
Assistant Secretary for Communications and Information.

[FR Doc. 00-16404 Filed 6-28-00; 8:45 am]

BILLING CODE 3510-60-P